POSTAL REGULATORY COMMISSION

[Docket Nos. C2024-13 and C2009-1; Order No. 9106]

Complaint

AGENCY: Postal Regulatory Commission.

ACTION: Notice.

SUMMARY: The Commission is providing notice that the Postal Service has moved to transfer the Complainants' request to publicly disclose all non-public documents filed in Docket No. C2009-1 from Docket No. C2024-13 to Docket No. C2009-1 and to extend the period to respond to the request. This document grants the Postal Service's motion and establishes a new deadline to respond to the Complainants' request.

DATES: Responses to the request to publicly disclose all non-public documents are due: September 19, 2025.

ADDRESSES: Documents can be accessed electronically through the Commission's website at https://www.prc.gov.

FOR FURTHER INFORMATION CONTACT: David A. Trissell, General Counsel, at 202-789-6820.

SUPPLEMENTARY INFORMATION: On August 1, 2025, Complainants filed a request pursuant to 39 CFR 3011.401 for the Commission to publicly disclose all non-public documents in Docket No. C2009-1.¹ The Postal Service in response submitted a consolidated filing requesting, among other relief, that: (1) the Request be transferred out of Docket No. C2024-13 and into Docket C2009-1 (Motion to Transfer); and (2) the time for which a response to the Request be due be extended (Motion for Extension).² For the reasons that follow, the Motion to Transfer and the Motion for Extension are granted.

¹ Motion to make entire C2009-1 (GameFly) docket public per 3011.401, August 1, 2025 (Request). Complainants subsequently filed an erratum to the Request correcting a regulatory cite. See Motion to make entire C2009-1 (GameFly) docket public per 3011.401—erratum, August 4, 2025.

² United States Postal Service Motion to Transfer and Additional Submissions Related to Complainants' “Motion to Make Entire C2009-1 (Gamefly) Docket Public Per 3011.401,” August 8, 2025, at 14 (“Motion to Transfer” or “Motion for Extension” or, collectively, “Response”). The Postal Service also argues that the Request has not sufficiently identified the “materials requested and date(s) that materials were originally submitted under seal.” Response at 4-6. The Commission disagrees; the Complainants have identified the requested materials sufficiently to allow the Postal Service and other interested parties the ability to respond.

In terms of the Motion to Transfer, the Postal Service asserts that the Request is more properly considered in Docket No. C2009-1 than in Docket No. C2024-13 because: (1) the requested records have no utility in Docket No. C2024-13; (2) handling such a request is outside of the Presiding Officer's authority in Docket No. C2024-13; (3) there is no need to further delay the resolution of Docket No. C2024-13; and (4) there will be increased transparency if the request is dealt with in Docket No. C2009-1. Motion to Transfer at 2-4. Complainants state that they take no position on this transfer so long as the Commission ensures that the Request is handled promptly (i.e., without “indefinite delay”). Therefore, the Motion to Transfer shall be granted. Future filings related to the Request shall be submitted in Docket No. C2009-1.

Regarding the Postal Service's Motion for Extension, 39 CFR 3011.401(c) allows the Commission to prescribe the amount of time under which parties may oppose a request to publicly disclose non-public documents.³ Here, the Postal Service argues that the Commission should extend the response period from the standard 7 days because: (1) given the significant length of the records requested to be disclosed, the Postal Service (and other interested parties) require considerable time to review said records; and (2) neither the procedural schedule nor Complainants' interests will be adversely affected by an extension, considering that the records cannot conceivably impact “the Presiding Officer's resolution of the matters remaining in Docket No. C2024-13” and that “all opportunities for advocacy [in Docket No. C2024-13] are now exhausted.” ⁴ In response, Complainants argue that any extra time needed to inform other interested parties of the proceedings is entirely speculative and that the Postal Service's stated rationale that it needs time to review the records is not credible given that it requested an extension of indefinite length and did not even include a partial application under 39 CFR 3011.401(c) suggesting that at least some of the records should be protected.⁵

³ See 39 CFR 3011.401(c) (emphasis added) (stating that “[a] response to the request is due within seven calendar days of the filing of the request, unless the Commission otherwise provides”).

⁴ See Motion for Extension at 10; see also 39 CFR 3010.162(c) (stating that a motion for extension “shall only be granted upon consideration of the potential adverse impact, if any, on other participants and the overall impact on the procedural schedule”).

⁵ Reply and response to USPS response & meta-motions re making entire C2009-1 (GameFly) docket public, August 14, 2025, at 5-7.

The Commission agrees that an extension is warranted to allow all interested parties to review the requested materials. Further, for the reasons stated by the Postal Service, the Commission agrees that neither the procedural schedule nor Complainants will be prejudiced by an extension. See Motion for Extension at 6-11. As such, the Commission will extend the time for interested parties to submit a substantive response to the Request until September 19, 2025.

It is ordered:

1. The United States Postal Service Motion to Transfer and Additional Submissions Related to Complainants' “Motion to Make Entire C2009-1 (Gamefly) Docket Public Per 3011.401,” filed August 8, 2025, is granted to the extent it seeks to transfer consideration of the underlying request to Docket No. C2009-1 and to extend the period to respond thereto.

2. All future filings related to Complainants' Motion to Make Entire C2009-1 (Gamefly) Docket Public Per 3011.401, filed August 1, 2025, shall occur in Docket No. C2009-1.

3. Responses, pursuant to 39 CFR 3011.401(c), to Complainants' Motion to Make Entire C2009-1 (Gamefly) Docket Public Per 3011.401, filed August 1, 2025, shall be filed on or before September 19, 2025.

4. The Secretary shall arrange for publication of this Order in the Federal Register.

By the Commission.
Erica A. Barker,
Secretary.

[FR Doc. 2025-16366 Filed 8-26-25; 8:45 am]

BILLING CODE 7710-FW-P